DEPARTMENT OF HEALTH AND HUMAN SERVICES

National Institutes of Health

Center for Scientific Review; Amended Notice of Meeting

Notice is hereby given of a change in the meeting of the Nutrition Study Section, June 19, 2000, 8:30 a.m. to June 20, 2000, 4 p.m. Delta Chelsea Hotel, 33 Gerrard Street, West Toronto, Ontario, ON 000000 which was published in the Federal Register on June 7, 2000, 65 FR 36156-36159.

The starting time of the meeting has been changed to 8 a.m. The meeting dates and location remain the same. The meeting is closed to the public.

Dated: June 14, 2000.
LaVerne Y. Stringfield,
Director, Office of Federal Advisory Committee Policy.

[FR Doc. 00-15749 Filed 6-21-00; 8:45 am]

BILLING CODE 4140-01-M